DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: FECA Medical Report Forms, Claim for Compensation (CA-7, CA-16, CA-17, CA-20, CA-1090, CA-1303, CA-1305, CA-1331, CA-1087, CA-1332, QCM Letters, OWCP-5a, OWCP-5b, and OWCP-5c). A copy of the proposed information collection request can be obtained by contacting the office listed below in the ADDRESSES section of this Notice.

DATES: Written comments must be submitted to the office listed in the ADDRESSES section below on or before April 25, 2005.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: FECA Medical Report Forms (CA-16, CA-17, CA-20, CA-1090, CA-1303, CA-1305, CAT-1331, CA-1087, CA-1332, QCM Letters, OWCP-5a, OWCP-5b, and OWCP-5c) and Claim for Compensation (CA-7).

I. Background

The Office of Workers' Compensation Programs (OWCP) administers the Federal Employees' Compensation Act (FECA), 5 U.S.C. 8101 et seq. The statute provides for the payment of benefits for wage loss and/or for permanent impairment to a scheduled member, arising out of a work related injury or disease. The Act outlines the elements of pay which are to be included in an individual's pay rate, and sets forth various other criteria for determining eligibility to and the amount of benefits, including augmentation of basic compensation for individuals with qualifying dependents; a requirement to report any earnings during a period that compensation is claimed; a prohibition against concurrent receipt of FECA benefits and benefits from OPM or certain VA benefits; a mandate that money collected from a liable third party found responsible for the injury for which compensation has been paid be applied to benefits paid or payable. Before compensation may be paid, the case file must contain medical evidence showing that the claimant's disability is casually related to the claimants' federal employment. As a particular claim ages, there is a continuing need for updated information to support continuing benefits. The FECA Medical Report Forms collect medical information from physicians which are necessary to determine entitlement to benefits under the Act. The CA-7, Claim for Compensation, requests information from the injured worker regarding pay rate, dependents, earnings, dual benefits, and third-party information. This information collection is currently approved for use through August 31, 2005.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks the approval of the extension of this information collection in order carry out its statutory responsibility to compensate injured employees under the provisions of the Act.

Type of Review: Extension.

Agency: Employment Standards Administration.

Titles: Claim for Compensation, FECA Medical Reports.

OMB Number: 1215-0103.

Agency Numbers: FECA Medical Report Forms (CA-16, CA-17, CA-20, CA-1090, CA-1303, CA-1305, CA-1331, CA-1087, CA-1332, QCM Letters, OWCP-5a, OWCP-5b, and OWCP-5c) and Claim for Compensation (CA-7).

Affected Public: Individuals or households; Business or other for-profit; Federal Government.

Total Respondents: 302,485.

Total Annual Responses: 302,485.

Estimated Total Burden Hours: 30,748.

Forms | Number of respondents | Average minutes per response | Burden hours
CA-7 | 400 | 13 | 87
CA-16 | 130,000 | 5 | 10,833
CA-17 | 60,000 | 5 | 5,000
CA-20 | 80,000 | 5 | 6,667
CA-1090 | 325 | 10 | 54
CA-1303 | 3,000 | 20 | 1,000
CA-1305 | 10 | 20 | 3
CA-1331 | 250 | 5 | 21
CA-1332 | 500 | 30 | 250
QCM Letters | 1,000 | 5 | 83
OWCP-5a | 7,000 | 15 | 1,750
OWCP-5b | 5,000 | 15 | 1,250
OWCP-5c | 15,000 | 15 | 3,750
Total | 302,485 | 163 | 30,748

Frequency: As needed.

Total Burden Cost (capital/startup): $0.

Total Burden Cost (operating/maintenance): $120,994.00.

Comments submitted in response to this notice will be summarized and/or included in the request for Office of Management and Budget approval of the information collection request; they will also become a matter of public record.

Dated: February 17, 2005.
Sue Blumenthal,
Acting Chief, Branch of Management Review and Internal Control, Division of Financial Management, Office of Management, Administration and Planning, Employment Standards Administration.

[FR Doc. 05-3491 Filed 2-23-05; 8:45 am]

BILLING CODE 4510-CH-P